DEPARTMENT OF ENERGY

Federal Energy Regulatory Commission

[Project No. 14795-002]

Shell Energy North America (US), LP; Notice of Application Tendered for Filing With the Commission and Soliciting Additional Study Requests

Take notice that the following hydroelectric application has been filed with the Commission and is available for public inspection.

a. Type of Application: Original major license.

b. Project No.: P-14795-002.

c. Date filed: November 1, 2017.

d. Applicant: Shell Energy North America (US), LP.

e. Name of Project: Hydro Battery Pearl Hill Pumped Storage Project.

f. Location: On the Columbia River and Rufus Woods Lake, near Bridgeport, Douglas County, Washington. The project would be located on state lands and the lower reservoir and power generation and pumping equipment would be located on Rufus Woods Lake, a reservoir operated by the Army Corps of Engineers.

g. Filed Pursuant to: Federal Power Act 16 U.S.C. 791(a)-825(r).

h. Applicant Contact: Kent Watt, Shell US Hosting Company, Shell Woodcreek Office, 150 North Dairy Ashford, Houston, TX 77079, (832) 337-1160, kent.watt@shell.com.

i. FERC Contact: Ryan Hansen, 888 1st St. NE., Washington, DC 20426, (202) 502-8074, ryan.hansen@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 2, 2018.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14795-002.

m. The application is not ready for environmental analysis at this time.

n. The proposed project would utilize the existing U.S. Army Corps of Engineers' Rufus Woods Lake Reservoir, and would consist of the following new facilities: (1) A 300-foot-diameter, 20-foot-tall lined corrugated steel tank upper reservoir with a storage capacity of 26.5 acre-feet; (2) a 3-foot-diameter, 3,400-foot-long above-ground carbon steel penstock transitioning to a 3-foot-diameter, 2,700-foot-long buried carbon steel penstock; (3) a 77-foot-long, 77-foot-wide structural steel power platform housing five 2,400 horsepower vertical turbine pumps, one 5 megawatt twin-jet Pelton turbine and synchronous generator, and accompanying electrical equipment; (4) five vertical turbine pump intakes, each fitted with a 27-inch-diameter by 94-inch-long T-style fish screen; (5) a 2,500-foot-long, 24.9-kilovolt buried/affixed transmission line interconnecting to an existing non-project transmission line; (6) an approximately 3,847-foot long gravel access road; and (7) appurtenant facilities. The average annual generation is estimated to be 24 gigawatt-hours.

o. A copy of the application is available for review at the Commission in the Public Reference Room or may be viewed on the Commission's Web site at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary schedule. At this time we anticipate issuing a single EA. Revisions to the schedule will be made as appropriate.

Issue Notice of Acceptance—February 2018

Issue Scoping Document 1 for comments—March 2018

Comments on Scoping Document 1—May 2018

Issue Scoping Document 2—June 2018

Issue notice of ready for environmental analysis—May 2018

Commission issues EA—November 2018

Comments on EA—December 2018

Dated: November 6, 2017.
Kimberly D. Bose,
Secretary.

[FR Doc. 2017-24459 Filed 11-9-17; 8:45 am]

BILLING CODE 6717-01-P